INTERNATIONAL TRADE COMMISSION

[Investigation No. 731-TA-1378-1379 (Final)]

Low Melt Polyester Staple Fiber From Korea and Taiwan

Determinations

On the basis of the record ¹ developed in the subject investigations, the United States International Trade Commission (“Commission”) determines, pursuant to the Tariff Act of 1930 (“the Act”), that an industry in the United States is materially injured by reason of imports of low melt polyester staple fiber (PSF) from Korea and Taiwan that have been found by the U.S. Department of Commerce (“Commerce”) to be sold in the United States at less than fair value (“LTFV”).2 3

¹ The record is defined in sec. 207.2(f) of the Commission's Rules of Practice and Procedure (19 CFR 207.2(f)).

² Low Melt Polyester Staple Fiber From the Republic of Korea: Final Determination of Sales at Less Than Fair Value and Final Affirmative Determination of Critical Circumstances, in Part, 83 FR 29094 (June 22, 2018); Low Melt Polyester Staple Fiber From Taiwan: Final Determination of Sales at Less Than Fair Value, 83 FR 29099 (June 22, 2018).

³ The Commission also finds that imports subject to Commerce's affirmative critical circumstances determination are not likely to undermine seriously the remedial effect of the antidumping duty order on Korea.

Background

The Commission instituted these investigations effective June 27, 2017, following receipt of a petition filed with the Commission and Commerce by Nan Ya Plastics Corporation, America, Livingston, New Jersey. The Commission scheduled the final phase of the investigations following notification of preliminary determinations by Commerce that imports of low melt PSF from Korea and Taiwan were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of February 26, 2018 (83 FR 8295). A revised schedule was published on May 9, 2018 (83 FR 21306). The hearing was held in Washington, DC, on June 19, 2018, and all persons who requested the opportunity were permitted to appear in person or by counsel.

The Commission made these determinations pursuant to section 735(b) of the Act (19 U.S.C. 1673d(b)). It completed and filed its determinations in these investigations on August 6, 2018. The views of the Commission are contained in USITC Publication 4808 (August, 2018), entitled Low Melt Polyester Staple Fiber from Korea and Taiwan: Investigation Nos. 731-TA-1378-1379 (Final).

By order of the Commission.
Issued: August 6, 2018.
Lisa Barton,
Secretary to the Commission.

[FR Doc. 2018-17071 Filed 8-8-18; 8:45 am]

BILLING CODE 7020-02-P